ENVIRONMENTAL PROTECTION AGENCY

[FRL-8031-8]

Marine Sanitation Device Standard; Casco Bay, Maine; Receipt of Petition

Notice is hereby given that a petition has been received from the State of Maine requesting a determination by the Regional Administrator, U. S. Environmental Protection Agency, pursuant to Section 312(f)(3) of Public Law 92-500 as amended by Public Law 95-217 and Public Law 100-4, that adequate facilities for the safe and sanitary removal and treatment of sewage from all vessels are reasonably available for the Casco Bay area.

The area of the Bay to be included in the designation includes all contiguous waters north and east of 43°33′56.04″ N-70°11′48.22″ W at Cape Elizabeth Light in Cape Elizabeth, to a point 43°42′17.65″ N-69°51′17.70″ W at Bald Point in Phippsburg. The southern boundary is a straight line between the points, however it does not include any waters outside of the three mile limit. The area also includes the navigable reaches of the Fore River, Presumpscot River, Royal River, Cousins River, Harraseeket River, and the New Meadows River.

The coastal towns bordering the proposed No Discharge Area are: Cape Elizabeth, South Portland, Portland, Long Island, Falmouth, Cumberland, Yarmouth, Freeport, Brunswick, Harpswell, West Bath, and Phippsburg. There are eleven inland towns which border the six rivers that are included in this proposed No Discharge Area designation.

The State of Maine has certified that there are twenty pumpout facilities located within the proposed area and a list of the facilities, phone numbers, locations, and hours of operation is appended at the end of this petition. There are 11 fixed shore-based facilities, seven portable facilities, one pumpout boat, and one dump stations. The majority of the pumpout facilities discharge directly to town sewer systems or are collected in a holding tank and then properly disposed by a licensed waste hauler to an off site facility.

In addition, there are approximately 19 large marinas, docking areas, and boatyards within the proposed No Discharge Area, the majority of which have restrooms available for their patrons.

The State of Maine has provided documentation indicating that the total vessel population is estimated to be 4896 in the proposed area. Of these, approximately 3476 are identified as recreational, 1420 are identified as commercial, and the transient vessel population is estimated to be 1288, which is included in the total figure. It is estimated that 3897 or approximately 80% of the total vessel population may have a Marine Sanitation Device (MSD) of some type. The state of Maine is within the ratio of pumpouts to boats from the EPA guidance (300-600 vessels for every one facility).

The coastline and coastal waters within the proposed NDA contain a variety of rich natural habitats and support a wide diversity of species, providing a range of recreational and commercial activities. There are 22 boat ramps, numerous lighthouses, seven historical forts, two state parks, and twenty-two individual harbors. One of the largest cities in Maine is located in the proposed area and the tourist traffic from day trips, ferry cruises, fishing and whale watching excursion is a major contributor to the area economy.

Casco Bay is part of the National Estuary Program, having been designated an “estuary of national significance” by EPA in 1990. The Maine coastal area is also part of the larger ecosystem of the Gulf of Maine, which is the subject of an international ecosystem management program involving the United States and Canada.

The proposed area has a variety of rich natural habitats, and supports a wide diversity of species. It has approximately 500 acres of rocky shore that supports seaweeds, periwinkles, mussels, barnacles, and crabs. There are approximately 150 species of water birds, two species of seals, four species of whales, two species of dolphins and harbor porpoises. Both recreational and commercial shell fishermen use the area for the harvest of soft shell clams, mussels, scallops, and surf clams. The flats support commercial harvests of sandworms and bloodworms. In addition Casco Bay supports recreational and commercial fishing and the species found in the area are pollock, sculpin, skate, winter flounder, and smelt.

Comments and reviews regarding this request for action may be filed on or before April 17, 2006. Such communications, or requests for information or a copy of the applicant's petition, should be addressed to Ann Rodney, U. S. Environmental Protection Agency—New England Region, One Congress Street, Suite 1100, COP, Boston, MA 02114-2023. Telephone: (617) 918-1538.

List of Pumpouts in the Proposed Area
Location/waterbody | Name/company | Contact information | Hours of operation | Minimum depth
New Meadows River, Brunswick | New Meadows Marina | 207-443-6277, VHF CH 9 | June-Sept., 8am-5pm M-F Weekend by appt | 4′
Merepoint Bay, Brunswick | Paul's Marina | 207-729-3067, VHF 9 | June-Sept., Self Serve 24/7 | 10′
Casco Bay, Falmouth | Falmouth Public Landing | 207-781-7317, VHF 9 | June-Sept., Self Serve 24/7 | 10′
Casco Bay, Falmouth | Handy Boat | 207-781-5110, VHF 9 | June-Sept., 8am-8pm 7 days | 4′
Casco Bay, Freeport | Brewers South Freeport Marine | 207-865-3181, VHF 9 | June-Sept., 8am-8pm 7 days | 10′
Casco Bay, Freeport | Strouts Point Wharf | 207-865-3899, VHF 9 | June-Sept., 8am-8pm 7 days | 10′
Potts Harbor, Harpswell | Dolphin Marine Services | 207-833-6000, VHF 9 | June-Sept., 8am-8pm 7 days | 10′
Orrs Harbor, Harpswell | Great Island Boatyard | 207-729-1639, VHF 9 | June-Sept., 8am-8pm 7 days | 10′
Sebasco Harbor, Phippsburg | Sebasco Harbor Resort | 207-389-1161, VHF 9 | June-Sept., 8am-8pm 7 days | 6′
Diamond Cove, Portland | Diamond Cove Marina | 207-766-5850, VHF 9 | June-Sept., 8am-8pm 7 days | 6′
Portland Harbor, Portland | DiMillos Old Port Marina | 207-773-7632, VHF 9 | May-Oct., 8am-8pm 7 days | 10′
Portland Harbor, Portland | Maine Yacht Center | 207-842-9000, VHF 9 | June-Sept., 8am-8pm 7 days | 10′
Portland Harbor, Portland | Portland Yacht Services | 207-774-1067, VHF 9 | June-Sept., 8am-8pm 7 days | 10′
Fore River, South Portland | City of South Portland | 207-767-3201, VHF 9 | June-Sept., 8am-8pm 7 days | 6′
Casco Bay, South Portland | Friends Of Casco Bay | 207-776-0136, VHF 9 | June-Sept., By apt | 10′
Portland Harbor, South Portland | South Port Marine | 207-799-8191, VHF 9 | June-Sept., 8am-8pm 7 days | 4′
Portland Harbor, South Portland | Spring Point Marina | 207-767-3213, VHF 9 | June-Sept., 8am-8pm 7 days | 10′
Portland Harbor, South Portland | Sunset Marina | 207-767-4729, VHF 9 | June-Sept., 8am-8pm 7 days | 6′
Portland Harbor, South Portland | Aspasia Marina | 207-767-3010, VHF 9 | June-Sept., 8am-8pm 7 days | 10′
Royal River, Yarmouth | Yankee Marina | 207-846-4326, VHF 9 | June-Sept., 8am-8pm 7 days | 6′
Royal River, Yarmouth | Yarmouth Boat Yard | 207-846-9050, VHF 9 | June-Sept., 8am-8pm 7 days | 10′

Dated: February 5, 2006.
Robert W. Varney,
Regional Administrator, New England—Region 1.

[FR Doc. E6-2141 Filed 2-14-06; 8:45 am]

BILLING CODE 6560-50-P